DEPARTMENT OF TRANSPORTATION

Federal Aviation Administration

14 CFR Part 39

[Docket No. FAA-2016-5457; Directorate Identifier 2016-CE-008-AD; Amendment 39-18469; AD 2016-07-24]

RIN 2120-AA64

Airworthiness Directives; Textron Aviation, Inc. Airplanes

AGENCY: Federal Aviation Administration (FAA), DOT.

ACTION: Final rule; request for comments.

SUMMARY: We are adopting a new airworthiness directive (AD) for all Textron Aviation, Inc. Models 310 through 310R, E310H, E310J, T310P through T310R, 310J-1, 320 through 320F, 320-1, 335, 340, 340A, 401 through 401B, 402 through 402C, 411, 411A, 414, 414A, and 421 through 421C airplanes (type certificates 3A10, 3A25, and A7CE previously held by Cessna Aircraft Company). This AD requires replacement and repetitive inspections of the hardware securing the elevator trim push-pull rod. This AD was prompted by lessons learned in accident investigation support, analysis of past accidents, and NTSB determinations of probable cause. That information indicates that following the loss of the attachment hardware connecting the elevator trim tab actuator to the elevator trim tab push-pull rod, the elevator tab may jam in a position outside the normal limits of travel. We are issuing this AD to correct the unsafe condition on these products.

DATES: This AD is effective April 26, 2016.

The Director of the Federal Register approved the incorporation by reference of a certain publication listed in this AD as of April 26, 2016.

We must receive comments on this AD by May 26, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Textron Aviation Customer Service, P.O. Box 7706, Wichita, Kansas 67277; telephone: (316) 517-5800; fax: (316) 517-7271; email: customercare@txtav.com; Internet: https://support.cessna.com/custsupt/csupport/newlogin.jsp. You may review this referenced service information at the FAA, Small Airplane Directorate, 901 Locust, Kansas City, Missouri 64106. For information on the availability of this material at the FAA, call (816) 329-4148. It is also available on the Internet at http://www.regulations.gov by searching for and locating Docket No. FAA-2016-5457.

Examining the AD Docket

You may examine the AD docket on the Internet at http://www.regulations.gov by searching for and locating Docket No. FAA-2016-5457; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Adam Hein, Aerospace Engineer, Wichita Aircraft Certification Office, FAA, 1801 S. Airport Road, Room 100, Wichita, Kansas 67209; phone: (316) 946-4116; fax: (316) 946-4107; email: adam.hein@faa.gov.

SUPPLEMENTARY INFORMATION:

Discussion

This AD was prompted by accident reports on Textron Aviation, Inc. Models T310Q, 310Q, and 402B airplanes. Lessons learned in the accident investigation support, analysis of past accidents, and NTSB determinations of probable cause indicate that following the loss of the attachment hardware connecting the elevator trim tab actuator to the elevator trim tab push-pull rod, the elevator tab may jam in a position outside the normal limits of travel.

This condition, if not corrected, could result in a loss of the ability to control the airplane. We are issuing this AD to correct the unsafe condition on these products.

Related Service Information Under 1 CFR Part 51

We reviewed Textron Aviation, Inc. (Cessna Aircraft Company) Multi-engine Service Bulletin No. MEB-27-02, dated February 29, 2016. The service information describes procedures for replacing the hardware connecting the elevator trim push-pull rod to the elevator trim actuator and elevator trim tab. This service information is reasonably available because the interested parties have access to it through their normal course of business or by the means identified in the ADDRESSES section of this AD.

FAA's Determination

We are issuing this AD because we evaluated all the relevant information and determined the unsafe condition described previously is likely to exist or develop in other products of the same type design.

AD Requirements

This AD requires replacement and repetitive inspection of the elevator trim tab push-pull rod connecting hardware.

Differences Between the AD and the Service Information

Due to the immediate safety of flight condition of this AD action, we are requiring replacement of the hardware within 90 days after the effective date of this AD rather than the potential of up to a year as allowed in the service information.

FAA's Justification and Determination of the Effective Date

An unsafe condition exists that requires the immediate adoption of this AD. The FAA has found that the risk to the flying public justifies waiving notice and comment prior to adoption of this rule because the loss of the attachment hardware connecting the elevator trim tab actuator to the elevator trim tab push-pull rod may result in jamming of the elevator trim tab beyond normal limits, which could result in loss of ability to control the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2016-5457 and Directorate Identifier 2016-CE-008-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 5,066 airplanes of U.S. registry.

We estimate the following costs to comply with this AD:

Estimated Costs
Action | Labor cost | Parts cost | Cost per product | Cost on U.S. operators
Elevator trim push-pull rod hardware replacement | 1 work-hour × $85 per hour = $85 | $18.50 | $103.50 | $524,331
Repetitive Inspection | 1 work-hour × $85 per hour = $85 |  | 85 | 430,610

We estimate the following costs to do any necessary replacements that would be required based on the results of the inspection. This is the same replacement that is initially required by this AD. We have no way of determining the number of aircraft that might need this repetitive on-condition replacement:

On-Condition Costs
Action | Labor cost | Parts cost | Cost per product
Elevator trim push-pull rod hardware replacement | 1 work-hour × $85 per hour = $85 | $18.50 | $103.50

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-24 Textron Aviation, Inc.: Amendment 39-18469; Docket No. FAA-2016-5457; Directorate Identifier 2016-CE-008-AD.

(a) Effective Date

This AD is effective April 26, 2016.

(b) Affected ADs

None.

(c) Applicability

This AD applies to Textron Aviation, Inc. Models 310 through 310R, E310H, E310J, T310P through T310R, 310J-1, 320 through 320F, 320-1, 335, 340, 340A, 401 through 401B, 402 through 402C, 411, 411A, 414, 414A, and 421 through 421C airplanes (type certificates 3A10, 3A25, and A7CE previously held by Cessna Aircraft Company), all serial numbers, certificated in any category.

(d) Subject

Joint Aircraft System Component (JASC)/Air Transport Association (ATA) of America Code 2731, Elevator Tab Control System.

(e) Unsafe Condition

This AD was prompted by lessons learned in accident investigation support, analysis of past accidents, and NTSB determinations of probable cause. That information confirms that following the loss of the attachment hardware connecting the elevator trim tab actuator to the elevator trim tab push-pull rod, the elevator tab may jam in a position outside the normal limits of travel and could result in loss of control. We are issuing this AD to correct the unsafe condition on these products.

(f) Actions and Compliance

Unless already done, do the actions in paragraphs (f)(1) through (f)(3) of this AD within the compliance times specified.

(1) Within the next 90 days after April 26, 2016 (the effective date of this AD), replace the elevator trim push-pull rod attachment hardware on the elevator trim actuator and the trim tab ends of the push-pull rod following steps 2 through 5 of the accomplishment instructions in Textron Aviation, Inc. (Cessna) Multi-engine Service Bulletin No. MEB-27-02, dated February 29, 2016.

(2) Following the replacement required in paragraph (f)(1) of this AD, at intervals not to exceed 100 hours TIS or 12 months, whichever occurs first, repetitively inspect the elevator trim push-pull rod attachment hardware on the elevator trim actuator and the trim tab ends of the push-pull rod, and replace the hardware if necessary before further flight following the Compliance NOTE on page 1 of Textron Aviation, Inc. (Cessna) Multi-engine Service Bulletin No. MEB-27-02, dated February 29, 2016.

(3) After April 26, 2016 (the effective date of this AD), any time the elevator trim push-pull rod attachment hardware on the elevator trim actuator and/or trim tab ends of the push-pull rod is removed for any reason, discard the old hardware (bolt, nut, washer and cotter pin) and replace with new hardware following steps 3 and/or step 5 of Textron Aviation, Inc. (Cessna) Multi-engine Service Bulletin No. MEB-27-02, dated February 29, 2016.

(g) Special Flight Permit

Special flight permits are allowed for this AD per 14 CFR 39.23 with the following limitation: Before flight a pre-flight inspection is required of the attachment hardware connecting the elevator trim tab actuator to the elevator trim tab push-pull rod. Confirmation of the presence of a castellated nut and cotter pin is required.

(h) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD.

(2) Before using any approved AMOC, notify your appropriate principal inspector, or lacking a principal inspector, the manager of the local flight standards district office/certificate holding district office.

(i) Related Information

For more information about this AD, contact Adam Hein, Aerospace Engineer, Wichita Aircraft Certification Office, FAA, 1801 S. Airport Road, Room 100, Wichita, Kansas 67209; phone: (316) 946-4116; fax: (316) 946-4107; email: adam.hein@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Textron Aviation, Inc. (Cessna) Multi-engine Service Bulletin No. MEB-27-02, dated February 29, 2016.

(ii) Reserved.

(3) For Textron Aviation, Inc. (Cessna) service information identified in this AD, contact Textron Aviation Customer Service, P.O. Box 7706, Wichita, Kansas 67277; telephone: (316) 517-5800; fax: (316) 517-7271; email: customercare@cessna.textron.com; Internet: https://support.cessna.com/custsupt/csupport/newlogin.jsp

(4) You may view this service information at the FAA, Small Airplane Directorate, 901 Locust, Kansas City, Missouri 64106. For information on the availability of this material at the FAA, call (816) 329-4148. It is also available on the Internet at http://www.regulations.gov by searching for and locating Docket No. FAA-2016-5457.

(5) You may view this service information that is incorporated by reference at the National Archives and Records Administration (NARA). For information on the availability of this material at NARA, call 202-741-6030, or go to: http://www.archives.gov/federal-register/cfr/ibr-locations.html.

Issued in Kansas City, Missouri, on March 30, 2016.
Jacqueline Jambor,
Acting Manager, Small Airplane Directorate, Aircraft Certification Service.

[FR Doc. 2016-07798 Filed 4-8-16; 8:45 am]

BILLING CODE 4910-13-P